DEPARTMENT OF DEFENSE

Defense Intelligence Agency

[DOD-2006-OS-0116]

Privacy Act of 1974; Systems of Records

AGENCY: Defense Intelligence Agency, DoD.

ACTION: Notice to amend a system of records.

SUMMARY: The Defense Intelligence Agency is amending a system of records notice to its existing inventory of record systems subject to the Privacy Act of 1974 (5 U.S.C. 552a), as amended.

DATES: This proposed action will be effective without further notice on July 5, 2006 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: May 26, 2006.
C.R. Choate,
Alternate OSD Federal Register Liaison Officer, Department of Defense.

LDIA 0800

System Name:

Operation Record System (February 22, 1993, 58 FR 10613).

Changes:

* * * * *

System Location:

Delete: “0001” and replace with: “5100”.

* * * * *

Safeguards:

Delete entry and replace with: “Records are maintained in a building protected by security guards and are stored in vaults, safes or locked cabinets and are accessible only to authorized personnel who are properly screened, cleared and training in the protection of privacy information. Electronic records are maintained on a classified and password protected system.”

* * * * *

System Manager(s) and Address:

Delete entry and replace with: “Collection Management Center, Operations Services Office, Defense Intelligence Agency, Washington, DC 20340-5100.”

Notification Procedure:

Delete entry and replace with: “Individuals seeking to determine whether information about themselves in contained in this system of records should address written inquiries to the Freedom of Information Act Office (DAN-1A/FOIA), Defense Intelligence Agency, 200 MacDill Blvd., Washington, DC 20340-5100.

Individuals should provide their full name, current address, telephone number and Social Security Number.”

Record Access Procedures:

Delete entry and replace with: “Individuals seeking access to information about themselves contained in this system should address written inquires to the Freedom of Information Act Office (DAN-1A/FOIA), Defense Intelligence Agency, 200 MacDill Blvd., Washington DC 20340-5100.

Individuals should provide their full name, current address, telephone number and Social Security Number.”

Contesting Record Procedures:

Delete entry and replace with: “DIA's rules for accessing records, for contesting contents and appealing initial agency determinations are published in DIA Regulation 12-12 ‘Defense Intelligence Agency Privacy Program’; 32 CFR part 319—Defense Intelligence Agency Privacy Program; or may be obtained from the system manager.”

* * * * *

LDIA 0800

System name:

Operation Record System.

System location:

Defense Intelligence Agency, Washington, DC 20340-5100.

Categories of individuals covered by the system:

Individuals involved in foreign intelligence and/or training activities conducted by the Department of Defense, who are of interest either because of the actual, apparent, or potential use.

Categories of records in the system:

Files include operational, biographic, policy, management, training, and administrative matters related to the foreign intelligence activities of the Department of Defense.

Authority for maintenance of the system:

Pursuant to the authority contained in the National Security Act of 1947, as amended, the Secretary of Defense issued Department of Defense Directive 5105.21 which created the Defense Intelligence Agency as a separate agency of the Department of Defense and charged the Agency's Director with the responsibility for the maintenance of necessary and appropriate records.

Purpose(s):

Information is collected to support the administration, operation, and management of foreign intelligence and/or training activities conducted by the Department of Defense. To provide information within the Department of Defense and other Federal agencies for the conduct of foreign intelligence operations and to provide staff management over foreign intelligence training conducted by the Department of Defense.

Routine uses of records maintained in the system, including categories of users and the purposes of such uses:

In addition to those disclosures generally permitted under 5 U.S.C. 552a(b) of the privacy Act, these records or information contained therein may specifically be disclosed outside the DoD as a routine use pursuant to 5 U.S.C. 552a(b)(3) as follows:

The “Blanket Routine Users” set forth at the beginning of the DIA's compilation of a systems of records notices apply to this system.

Policies and practices for storing, retrieving, accessing, retaining, and disposing of records in the system:

Storage:

Automated on magnetic tapes and discs, microfilm and aperture cards and manual in paper files.

Retrievability:

Alphabetically by surname of individual.

Safeguards:

Records are maintained in a building protected by security guards and are stored in vaults, safes or locked cabinets and are accessible only to authorized personnel who properly screened, cleared and trained in the protection of privacy information. Electronic records are maintained on a classified and password protected systsm.

Retention and disposal:

Master files are retained indefinitely. Temporary records are destroyed.

System manager(s) and address:

Collection Management Center, Operations Services Office, Defense Intelligence Agency, Washington, DC 20340-5100.

Notification procedure:

Individuals seeking to determine whether information about themselves is contained in this system of records should address written inquiries to the Freedom of Information Act Office (DAN-1A/FOIA), Defense Intelligence Agency, 200 MacDill Blvd., Washington, DC 20340-5100.

Individuals should provide their full name, current address, telephone number and Social Security Number.

Record access procedures:

Individuals seeking access to information about themselves contained in this system should address written inquiries to the Freedom of Information Act Office (DAN-1A/FOIA), Defense Intelligence Agency, 200 MacDill Blvd., Washington, DC 20340-5100.

Individuals should provide their full name, current address, telephone number and Social Security Number.

Contesting record procedures:

DIA's rules for accessing records, for contesting contents and appealing initial agency determinations are published in DIA Regulation 12-12 “Defense Intelligence Agency Privacy Program”; 32 CFR part 319—Defense Intelligence Agency Privacy Program; or may be obtained from the system manager.

Record source categories:

DoD, other intelligence agencies, educational institutions, Federal agencies, research institutions, foreign governments and open source literature.

Exemptions claimed for the system:

Parts of this system may be exempt under 5 U.S.C. 552a(k)(2) and (k)(5), as applicable. An exemption rule for this record system has been promulgated in accordance with the requirements of 5 U.S.C. 553(b)(1), (2), and (3), (c) and (e) and published in 32 CFR part 319. For more information contact the system manager.

[FR Doc. 06-5091 Filed 6-2-06; 8:45 am]

BILLING CODE 5001-06-M